DEPARTMENT OF DEFENSE

Office of Secretary of Defense

[DOD-2007-OS-0071]

Privacy Act of 1974; Systems of Records

AGENCY: Defense Finance and Accounting Service, DOD.

ACTION: Notice to Add a System of Records.

SUMMARY: The Defense Finance and Accounting Service (DFAS) is proposing to add a system of records notice to its inventory of record systems subject to the Privacy Act of 1974, (5 U.S.C. 552a), as amended.

DATES: This action will be effective without further notice on August 8, 2007 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on (date), to the House Committee on Oversight and Government Reform, the Senate Committee on Homeland Security and Governmental Affairs, and the Office of Management and Budget (OMB) pursuant to paragraph 4c of Appendix I to OMB Circular No. A-130, ‘Federal Agency Responsibilities for Maintaining Records About Individuals,' dated December 12, 2000, 65 FR 239.

Dated: July 2, 2007.
C.R. Choate,
Alternative Federal Register Liaison Officer, Department of Defense.

T7346a

System name:

Reserve and National Guard Members' Status Tracking System.

System location:

Defense Finance and Accounting Service—Indianapolis, 8899 East 56th Street, Indianapolis, IN 46249-2700.

Categories of individuals covered by the system:

United States Army Reserve and National Guard members in a military pay status.

Categories of records in the system:

Individual's name, pay grade, Social Security Number (SSN), date of birth, gender, pay dates, leave account information, rank, enlistment contract or officer acceptance form identification, duty information (duty station, personnel assignment, and unit), security investigation, combat tours, temporary active duty data, years in service, promotional data, master military pay account (MMPA) records, leave and earnings statements (LESs), substantiating pay and allowance entitlements, deductions, or collection actions.

In addition, following are examples of documents maintained in the system:

Pay entitlements and allowances: Base pay, allowances (such as basic allowance for subsistence, basic allowance for quarters, family separation, clothing maintenance and monetary allowances), special compensation for positions such as medical, dental, veterinary, and optometry, special pay and bonus, such as foreign duty, proficiency, hostile fire, incentive pay such as parachute duty, and other entitlements in accordance with the DoD Financial Management Regulations, Volume 7A, 7000.14-R.

Deductions from pay: Indebtedness and collection information.

Duty status: Status adjustments relating to leave, entrance on active duty, absent without leave, confinement, desertion, sick or injured, mentally incompetent, missing, interned, promotions and demotions, and separation document code.

Supporting documentation: Includes, but is not limited to, travel orders and requests, payroll attendance lists and rosters, document records that establish, support, reduce, or cancel entitlements, certificates and statements changing address, name, military assignment, and other individual data, benefits and waivers; military pay, personnel orders, pay adjustment authorization records, member indebtedness documentation, earnings statements, casual payment authorization, and other documentation authorizing or substantiating Reserve Forces military pay and allowances, entitlements, deductions, or collections.

Authority for maintenance of the system: 5 U.S.C. 301, Departmental Regulations; 10 U.S.C. Section 261; 37 U.S.C. 204, Entitlement; Department of Defense Financial Management Regulation (DoDFMR) 7000.14-R Volume 7A; and E.O. 9397 (SSN).

Purpose(s):

To track U.S. Army Reserve and Guard members' reserve status and ensure proper payment of entitlements.

Routine uses of records maintained in the system, including categories of users and the purpose of such uses:

In addition to those disclosures generally permitted under 5 U.S.C. 552a(b) of the Privacy Act, these records or information contained therein may specifically be disclosed outside the DoD as a routine use pursuant to 5 U.S.C. 552a(b)(3) as follows:

The `Blanket Routine Uses' published at the beginning of the Defense Finance and Accounting Service compilation of systems of records notices apply to this system.

Policies and practices for storing, retrieving, accessing, retaining, and disposing of records in the system:

Storage:

Paper records in file folders and electronic storage media.

Retrievability:

Individual's name and Social Security Number (SSN).

Safeguards:

Records are stored in office buildings protected by guards, controlled screening, use of visitor registers, electronic access, and/or locks. Access to records is limited to individuals who are properly screened and cleared on a need-to-know basis in the performance of their official duties. Passwords and digital signatures are used to control access to the systems data, and procedures are in place to deter and detect browsing and unauthorized access.

Retention and disposal:

Records may be temporary in nature and destroyed when actions are completed, superseded, obsolete, or no longer needed. Other records may be cut off at the end of the payroll year or fiscal year, and destroyed 6 years and 3 months after cutoff. Records are destroyed by degaussing, burning, or shredding.

System manager(s) and address:

Systems Manager, Defense Finance and Accounting Service—Indianapolis, Information Technology Directorate, 8899 East 56th Street, Indianapolis, IN 46249-2700.

Notification procedure:

Individuals seeking to determine whether information about themselves is contained in this system of records should address written inquiries to the Defense Finance and Accounting Service, Freedom of Information/Privacy Act Program Manager, Corporate Communications and Legislative Liaison, 6760 E. Irvington Place, Denver, CO 80279-8000.

Requests should contain individual's full name, Social Security Number (SSN), current address, and telephone number.

Record access procedures:

Individuals seeking access to information about themselves contained in this system of records should address written inquiries to the Defense Finance and Accounting Service, Freedom of Information/Privacy Act Program Manager, Corporate Communications and Legislative Liaison, 6760 E. Irvington Place, Denver, CO 80279-8000.

Requests should contain individual's full name, Social Security Number (SSN), current address, and telephone number.

Contesting record procedures:

The DFAS rules for accessing records, for contesting contents and appealing initial agency determinations are published in DFAS Regulation 5400.11-R; 32 CFR part 324; or may be obtained from the Freedom of Information/Privacy Act Program Manager, Corporate Communications and Legislative Liaison, 6760 E. Irvington Place, Denver, CO 80279-8000.

Record source categories:

Individual, DFAS payroll system, and DoD Components.

Exemptions claimed for the system:

None.

[FR Doc. E7-13254 Filed 7-6-07; 8:45 am]

BILLING CODE 5001-06-P